DEPARTMENT OF ENERGY

Office of Science; High Energy Physics Advisory Panel; Meeting

AGENCY: Department of Energy.

ACTION: Notice of open meeting.

SUMMARY: This notice announces a meeting of the High Energy Physics Advisory Panel (HEPAP). Federal Advisory Committee Act (Public Law 92-463, 86 Stat. 770) requires that public notice of these meetings be announced in the Federal Register.

DATES: Monday, September 29, 2003; 9 a.m. to 6 p.m. and Tuesday, September 30, 2003; 8:30 a.m. to 4 p.m.

ADDRESSES: Hilton Washington Embassy Row, 2015 Massachusetts Avenue, NW., Washington, DC 20036.

FOR FURTHER INFORMATION CONTACT: Bruce Strauss, Executive Secretary; High Energy Physics Advisory Panel; U.S. Department of Energy; SC-22/Germantown Building, 1000 Independence Avenue, SW., Washington, DC 20585-1290; Telephone: 301-903-3705.

SUPPLEMENTARY INFORMATION: Purpose of Meeting: To provide advice and guidance on a continuing basis with respect to the high energy physics research program.

Tentative Agenda: Agenda will include discussions of the following:

Monday, September 29, 2003, and Tuesday, September 30, 2003

• Discussion of the DOE/NSF HEPAP Subpanel on Particle Physics Project Prioritization Panel (P5) Report.

• Discussion of Department of Energy High Energy Physics Programs.

• Discussion of National Science Foundation Elementary Particle Physics Program.

• Discussion of the High-Energy Physics Facilities Recommended For the DOE Office of Science Twenty-Year Roadmap Report.

• Discussion of High Energy Physics University Programs.

• Reports on and Discussion of U.S. Large Hadron Collider Activities.

• Reports on and Discussion of Topics of General Interest in High Energy Physics.

• Public Comment (10-minute rule).

Public Participation: The meeting is open to the public. If you would like to file a written statement with the Panel, you may do so either before or after the meeting. If you would like to make oral statements regarding any of these items on the agenda, you should contact Bruce Strauss, 301-903-3705 or Bruce.Strauss@science.doe.gov (e-mail). You must make your request for an oral statement at least 5 business days before the meeting. Reasonable provision will be made to include the scheduled oral statements on the agenda. The Chairperson of the Panel will conduct the meeting to facilitate the orderly conduct of business. Public comment will follow the 10-minute rule.

Minutes: The minutes of the meeting will be available for public review and copying within 90 days at the Freedom of Information Public Reading Room; Room 1E-190; Forrestal Building; 1000 Independence Avenue, SW., Washington, DC, between 9 a.m. and 4 p.m., Monday through Friday, except Federal holidays.

Issued at Washington, DC on August 19, 2003.
Rachel M. Samuel,
Deputy Advisory Committee Management.

[FR Doc. 03-21545 Filed 8-21-03; 8:45 am]

BILLING CODE 6450-01-M